DEPARTMENT OF DEFENSE

Office of the Secretary

Defense Science Board; Notice of Change of Advisory Committee Meetings

SUMMARY: The meeting of the Defense Science Board (DSB) Task Force on High Energy Laser Weapon Systems Applications, which was scheduled for April 17-18, 2001, has been rescheduled for April 16, 2001. In addition, the meeting scheduled for May 15-16, 2001, will now be held on May 15, 2001 only. The meeting will be held Strategic Analysis Inc., 3601 Wilson Boulevard, Arlington, VA 22201.

Dated: March 1, 2001.
L. M. Bynum,
Alternate OSD Federal Register Liaison Officer, Department of Defense.

[FR Doc. 01-5616 Filed 3-7-01; 8:45 am]

BILLING CODE 5001-10-M